DEPARTMENT OF COMMERCE

National Oceanic and Atmospheric Administration

RIN 0648-XF676

Western Pacific Fishery Management Council; Public Meetings

AGENCY: National Marine Fisheries Service (NMFS), National Oceanic and Atmospheric Administration (NOAA), Commerce.

ACTION: Notice of a public meetings.

SUMMARY: The Western Pacific Fishery Management Council (Council) will hold a meeting of its Mariana Archipelago, American Samoa Archipelago, and Hawaii Archipelago Fishery Ecosystem Plan (FEP) Advisory Panels (AP) to discuss and make recommendations on fishery management issues in the Western Pacific Region.

DATES: The CNMI Mariana Archipelago FEP AP will meet on Wednesday, September 20, 2017, between 5 p.m. and 8 p.m. The American Samoa Archipelago FEP AP will meet on Thursday, September 21, 2017, between 4:30 p.m. and 6:30 p.m. The Guam Mariana Archipelago FEP AP will meet on Friday, September 22, 2017, between 5 p.m. and 8 p.m. The Hawaii Archipelago FEP AP will meet on Friday, September 29, 2017, between 1 p.m. and 4 p.m. All times listed are local island times. For specific times and agendas, see SUPPLEMENTARY INFORMATION.

ADDRESSES:

Meeting addresses:

The CNMI Archipelago FEP AP will meet at the Hyatt Regency Saipan, Royal Palm Avenue, Micro Beach Road, Garapan, Saipan, CNMI 96950;

The American Samoa Archipelago FEP AP will meet at the Pacific Petroleum Conference Room, Utulei Village, American Samoa 96799;

The Guam Mariana Archipelago FEP AP will meet at the Hilton Guam Resort & Spa, 202 Hilton Road, Tumon Bay, Tamuning, Guam 96913; and

The Hawaii Archipelago FEP AP will meet at the Council Office, 1164 Bishop St. Suite 1400, Honolulu, HI 96813.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the CNMI Mariana Archipelago FEP AP Meeting

Wednesday, September 20, 2017, 5 p.m.-8 p.m.

1. Welcome and Introductions

2. Report on Previous Council Action Items

3. Council Issues

A. Ecosystem Component Species Designation

B. Aquaculture Management in the Western Pacific Region

4. Mariana FEP Community Activities

5. Marianas FEP AP-CNMI Issues

A. Report of the Subpanels

i. Island Fisheries Subpanel

ii. Pelagic Fisheries Subpanel

iii. Ecosystems and Habitat Subpanel

iv. Indigenous Fishing Rights Subpanel

B. Other Issues

6. Public Comment

7. Discussion and Recommendations

8. Other Business

Schedule and Agenda for the American Samoa Archipelago FEP AP Meeting

Thursday, September 21, 2017, 4:30 p.m.-6:30 p.m.

1. Welcome and Introductions

2. Report on Previous Council Action Items

3. Council Issues

A. Ecosystem Component Species Designation

B. Aquaculture Management in the Western Pacific Region

C. Options for the American Samoa Large Vessel Prohibited Area

D. Modifications to the American Samoa Longline Fishery Permitting System

4. American Samoa FEP Community Activities

5. American Samoa FEP AP Issues

A. Report of the Subpanels

i. Island Fisheries Subpanel

ii. Pelagic Fisheries Subpanel

iii. Ecosystems and Habitat Subpanel

iv. Indigenous Fishing Rights Subpanel

B. Other Issues

6. Public Comment

7. Discussion and Recommendations

8. Other Business

Schedule and Agenda for the Guam Mariana Archipelago FEP AP Meeting

Friday, September 22, 2017, 5 p.m.-8 p.m.

1. Hafa Adai-Welcome and Introductions

2. Report on Previous Council Action Items

3. Council Issues

A. Ecosystem Component Species Designation

B. Aquaculture Management in the Western Pacific Region

4. Mariana FEP Community Activities

5. Marianas FEP AP-Guam Issues

A. Report of the Subpanels

i. Island Fisheries Subpanel

ii. Pelagic Fisheries Subpanel

iii. Ecosystems and Habitat Subpanel

iv. Indigenous Fishing Rights Subpanel

B. Other Issues

6. Public Comment

7. Discussion and Recommendations

8. “At the End of the Day”—Other Business

Schedule and Agenda for the Hawaii Archipelago FEP AP Meeting

Friday, September 29, 2017, 1 p.m.-4 p.m.

1. Welcome and Introductions

2. Report on Previous Council Action Items

3. Council Issues

A. Ecosystem Component Species Designation

B. Aquaculture Management in the Western Pacific Region

4. Hawaii FEP Community Activities

5. Hawaii FEP AP Issues

A. Report of the Subpanels

i. Island Fisheries Subpanel

ii. Pelagic Fisheries Subpanel

iii. Ecosystems and Habitat Subpanel

iv. Indigenous Fishing Rights Subpanel

B. Other Issues

6. Public Comment

7. Discussion and Recommendations

8. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: August 31, 2017.
Tracey L. Thompson,
Acting Deputy Director, Office of Sustainable Fisheries, National Marine Fisheries Service.

[FR Doc. 2017-18870 Filed 9-5-17; 8:45 am]

BILLING CODE 3510-22-P